DEPARTMENT OF LABOR

Employment and Training Administration

[TA-W-51,860]

Solutia, Inc., Trenton, MI; Notice of Termination of Investigation

Pursuant to section 221 of the Trade Act of 1974, as amended, an investigation was initiated on May 22, 2003 in response to a worker petition filed by The International Brotherhood of Teamsters, Local 299, on behalf of workers at Solutia, Inc., Trenton, Michigan.

The petitioning group of workers is covered by an earlier petition filed on April 20, 2003 (TA-W-51,586) that is the subject of an ongoing investigation for which a determination has not yet been issued. Further investigation in this case would duplicate efforts and serve no purpose; therefore the investigation under this petition has been terminated.

Signed at Washington, DC this 3rd day of June, 2003.
Linda G. Poole,
Certifying Officer, Division of Trade Adjustment Assistance.

[FR Doc. 03-15469 Filed 6-18-03; 8:45 am]

BILLING CODE 4510-30-P